DEPARTMENT OF COMMERCE

National Oceanic and Atmospheric Administration

RIN 0648-XA341

Marine Mammals; File No. 15324

AGENCY: National Marine Fisheries Service (NMFS), National Oceanic and Atmospheric Administration (NOAA), Commerce.

ACTION: Notice of issuance of permit amendment.

SUMMARY: Notice is hereby given that a major amendment to Permit No. 15324 has been issued to the Alaska Department of Fish and Game (ADF&G), Division of Wildlife Conservation, Juneau, AK (Responsible Party: Robert Small, Ph.D.).

ADDRESSES: The permit amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Amy Sloan or Courtney Smith, (301) 427-8401.

SUPPLEMENTARY INFORMATION: On April 4, 2014, notice was published in the Federal Register (79 FR 18890) that a request for an amendment Permit No. 15324 to conduct research on pinniped species in Alaska had been submitted by the above-named applicant. The requested permit amendment has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 15324-01 authorizes the permit holder to take spotted (Phoca largha), ringed (Phoca hispida), bearded (Erignathus barbatus), and ribbon seals (Histriophoca fasciata) in the Bering, Chukchi, and Beaufort seas of Alaska to monitor the status and health of each species by analyzing biological samples from the subsistence harvest and live captured seals, and by documenting movements and habitat use by tracking animals with satellite transmitters. The permit authorizes harassment of non-target seals of each species and a limited number of research-related mortalities. Samples may be imported from Russia, Canada, Svalbard (Norway) and exported to Canada for analyses. The permit was amended to include: (1) Takes by harassment during aerial and vessel surveys to monitor seal distribution relative to changes in sea ice; (2) increased takes by incidental harassment; (3) the use of additional sedative drugs during capture activities; and (4) the use of remote dart-delivery as a method for capturing bearded seals. The amended permit is valid through December 31, 2016.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Dated: December 2, 2014.
Julia Harrison,
Chief, Permits and Conservation Division, Office of Protected Resources, National Marine Fisheries Service.

[FR Doc. 2014-28638 Filed 12-5-14; 8:45 am]

BILLING CODE 3510-22-P